DEPARTMENT OF COMMERCE

National Oceanic and Atmospheric Administration

15 CFR Part 902

50 CFR Part 635

[Docket No. 010530142-1142-01; I.D. 040601J]

RIN 0648-AP23

Atlantic Highly Migratory Species (HMS); NOAA Information Collection Requirements; Regulatory Adjustments

AGENCY: National Marine Fisheries Service (NMFS), National Oceanic and Atmospheric Administration (NOAA), Commerce.

ACTION: Final rule; technical amendment.

SUMMARY: NMFS announces approval by the Office of Management and Budget (OMB) of a collection-of-information requirement contained in the final consolidated regulations governing the Atlantic HMS fisheries. Accordingly, NMFS amends the regulations and makes effective the requirement that vessels taking paying customers to fish for Atlantic tunas, swordfish, sharks, and billfish obtain an Atlantic HMS Charter/Headboat permit. This final rule, technical amendment, also updates the OMB table to add this OMB approval, to remove expired control numbers, and to correct control numbers to the appropriate CFR part or section. The intent of this final rule is to inform the public of the effective date of the Atlantic HMS Charter/Headboat permit requirement and to adjust the regulations accordingly.

DATES: Effective July 1, 2001.

ADDRESSES: Any comments regarding burden-hour estimates for collection-of-information requirements contained in this final rule should be sent to Christopher Rogers, Acting Chief, Highly Migratory Species Management Division, Office of Sustainable Fisheries (F/SF1), NMFS, 1315 East-West Highway, Silver Spring, MD 20910-3282, and to the Office of Information and Regulatory Affairs, Office of Management and Budget, Washington, DC 20503 (ATTN: NOAA Desk Officer).

FOR FURTHER INFORMATION CONTACT: Brad McHale or Pat Scida, 978-281-9260.

SUPPLEMENTARY INFORMATION: On May 28, 1999, NMFS published a final rule (64 FR 29090) to implement the Fishery Management Plan for Atlantic Tunas, Swordfish and Sharks (HMS FMP) and Amendment One to the Fishery Management Plan for Atlantic Billfish (Billfish FMP Amendment). One of the measures in the FMPs and the implementing rule required vessels that take paying customers fishing for Atlantic tunas, swordfish, sharks, and billfish to obtain an Atlantic HMS Charter/Headboat permit (50 CFR 635.46(b). The final rule was published prior to OMB’s approval of the information collection requirement for the charter/headboat permit. Therefore, the effective date of this information collection requirement was deferred pending OMB approval. On August 9, 2000, OMB approved the information collection associated with the Atlantic HMS Charter/Headboat permit requirement. As the OMB approval was issued during the midst of the 2000 fishing year, NMFS did not immediately make the regulation effective so as to avoid confusion among charter/headboat operators who had already been issued Atlantic Tunas permits for the 2000 fishing year, and to provide the Agency time to modify the automated permit system to issue the new type of permits.

NOAA codifies its OMB control numbers for information collection at 15 CFR part 902. This final rule/technical amendment notifies the public of the OMB approval of this information collection, codifies OMB control number 0648-0327 for 50 CFR 635.4(b) in the table at 15 CFR 902.1(b), and updates the table at 15 CFR 902.1(b) to remove expired control numbers and to correct control numbers that were not associated with the appropriate CFR part or section.

This final rule/technical amendment makes the regulations requiring the Atlantic HMS Charter/Headboat permit effective July 1, 2001. The fishing year for sharks is based on a calendar year. It also amends the regulations to reflect this new requirement by removing or replacing obsolete regulatory text that pertains to the Atlantic Tunas Charter/Headboat permit category.

Classification

This rule has been determined to be not significant for the purposes of Executive Order 12866.

Notwithstanding any other provision of the law, no person is required to respond to, nor shall any person be subject to a penalty for failure to comply with, a collection of information subject to the requirements of the Paperwork Reduction Act (PRA), unless that collection of information displays a currently valid OMB control number.

This rule contains a collection-of-information requirement subject to the PRA that has been approved by OMB under 0648-0327. The public reporting burden for the information collection for an initial permit is estimated to average 30 minutes per response, and the public reporting burden for renewal by telephone or via the internet is estimated to average six minutes per response. The estimated response time includes the time needed for reviewing instructions, searching existing data sources, gathering and maintaining the data needed, and completing and reviewing the collection of information. Send comments regarding these reporting burden estimates or any other aspect of the collection-of-information, including suggestions for reducing the burden, to NMFS and OMB (see ADDRESSES).

List of Subjects

15 CFR Part 902

Reporting and recordkeeping requirements.

50 CFR Part 635

Fisheries, Fishing, Fishing vessels, Foreign relations, Intergovernmental relations, Penalties, Reporting and recordkeeping requirements, Statistics, Treaties.

Dated: June 1, 2001.
William T. Hogarth,
Acting Assistant Administrator for Fisheries, National Marine Fisheries Service.

For the reasons set out in the preamble, 15 CFR chapter IX and 50 CFR Chapter VI are amended as follows:

15 CFR Chapter IX

PART 902—NOAA INFORMATION COLLECTION REQUIREMENTS UNDER THE PAPERWORK REDUCTION ACT; OMB CONTROL NUMBERS

1. The authority citation for part 902 continues to read as follows:

Authority: 44 U.S.C. 3501 et seq.

2. In § 902.1, the table in paragraph (b) under 50 CFR is amended by removing the entries for part 635 from § 635.4(d) through § 635.69(a), and, in the right hand column in corresponding positions, the control numbers, and by adding in their place the following entries to read as follows:

§ 902.1 OMB control numbers assigned pursuant to the Paperwork Reduction Act.

* * * * *

(b) Display.

CFR part or section where the information collection requirement is located | Current OMB control number (All numbers begin with 0648-)
* * * * *
50 CFR |
* * * * *
635.4(b) | -0327
635.4(d) | -0327
635.4(g) | -0202 and -0205
635.5(a) | -0371 and -0328
635.5(b) | -0013 and -0239
635.5(c) | -0328
635.5(d) | -0323
635.6 | -0373
635.7(c) | -0374
635.26 | -0247
635.31(b) | -0216
635.32 | -0309
635.33 | -0338
635.42 | -0040
635.43 | -0040
635.44 | -0040
635.46(b) | -0363
635.69(a) | -0372
* * * * *

50 CFR Chapter VI

PART 635—ATLANTIC HIGHLY MIGRATORY SPECIES

3. The authority citation for part 635 continues to read as follows:

Authority: 16 U.S.C. 971 et seq.; 16 U.S.C. 1801 et seq.

4. In § 635.4, paragraphs (b)(1), and (d)(1) through (d)(3) are revised to read as follows:

§ 635.4 Permits and fees.

* * * * *

(b) HMS Charter/Headboat Permits. (1) The owner of a charter boat or headboat used to fish for, take, retain, or possess any Atlantic HMS must obtain an HMS Charter/Headboat permit. A vessel issued an Atlantic HMS Charter/Headboat permit, during such permit's period of validity, shall not be issued an Atlantic Tunas permit in any category.

* * * * *

(d) Atlantic Tunas vessel permits. (1) The owner of each vessel used to fish for or take Atlantic tunas or on which Atlantic tunas are retained or possessed must obtain, in addition to any other required permits, an HMS Charter/Headboat permit issued under paragraph (b) of this section, or an Atlantic Tunas permit in one, and only one, of the following categories: Angling, General, Harpoon, Longline, Purse Seine, or Trap.

(2) Persons aboard a vessel with a valid Atlantic Tunas vessel permit or HMS Charter/Headboat permit may fish for, take, retain, or possess Atlantic tunas, but only in compliance with the quotas, catch limits, size classes, and gear applicable to the permit category of the vessel from which he or she is fishing. Persons may sell Atlantic tunas only if the harvesting vessel has a valid permit in the General, Harpoon, Longline, Purse Seine, or Trap category of the Atlantic tunas permit or a valid HMS Charter/Headboat permit. Persons may not sell Atlantic tunas caught on board a vessel issued a permit in the Angling category.

(3) Except for vessels with an Atlantic Tunas purse seine category permit, a vessel owner may change the category of the vessel's Atlantic Tunas permit or change between an Atlantic Tunas permit and the Atlantic HMS Charter/Headboat permit no more than once each year and only from January 1 through May 15. From May 16 through December 31, the vessel's permit or permit category may not be changed, regardless of a change in the vessel's ownership.

* * * * *

§ 635.5 [Amended]

5. In § 635.5, paragraph (a)(1) the reference “§ 635.4(c)” is removed and replaced with the reference “§ 635.4(b)” .

§ 635.71 [Amended]

6. In § 635.71, paragraph (a)(27) the reference “§ 635.4(c)(2)” is removed and replaced with the reference “§ 635.4(b)”.

[FR Doc. 01-14288 Filed 6-1-01; 4:52 pm]

BILLING CODE 3510-22-S